DEPARTMENT OF THE INTERIOR

Bureau of Ocean Energy Management

30 CFR Part 585

[Docket ID: BOEM-2025-0036]

RIN 1010-AE35

Rescission of Renewable Energy Leasing Schedule

AGENCY: Bureau of Ocean Energy Management, Interior.

ACTION: Direct final rule.

SUMMARY: The Department of the Interior (the Department or DOI), acting through the Bureau of Ocean Energy Management (BOEM), is amending the Department's regulations to rescind a section that provides for publishing a renewable energy leasing schedule every 2 years. This section is not necessary because it is not mandated by the statute for renewable energy regulations.

DATES: This direct final rule is effective on September 4, 2025 without further action, unless significant adverse comment is received by August 20, 2025 If adverse comment is received, BOEM will publish a timely withdrawal of the rule in the Federal Register.

ADDRESSES: BOEM has established a docket for this action under Docket ID No. BOEM-2025-0036. All documents in the docket are listed on the website at http://www.regulations.gov and can be found by entering the Docket ID in the “Enter Keyword or ID” search box and clicking “search”.

FOR FURTHER INFORMATION CONTACT: Jennifer Jones, Office of Regulatory Affairs, BOEM, 1849 C Street NW, Washington, DC 20240, at email address jennifer.jones@boem.gov, or at telephone number (202) 571-8664.

SUPPLEMENTARY INFORMATION:

Background information. This direct final rule revises the Department's regulations, which are administered by BOEM, that contain a provision specifying that at least every 2 years, the Secretary of the Interior (Secretary) will publish a 5-year schedule of anticipated lease sales in section 585.150 of title 30 of the Code of Federal Regulations. Upon reviewing this regulation, the Department has determined that it should be rescinded because this schedule of anticipated lease sales is not mandated by the authorizing statute, the Outer Continental Shelf Lands Act (OCSLA), and unnecessarily limits the Secretary's discretion over scheduling renewable lease sales. Moreover, on January 20, 2025, President Trump invoked section 12(a) of OCSLA (43 U.S.C. 1341(a)) to temporarily but indefinitely withdraw unleased areas on the OCS from wind leasing, and, because that withdrawal prevents future renewable energy leasing while it is in effect, it serves no purpose for the Department to publish a schedule of sales every 2 years. The Department has determined that these reasons justify rescission of 30 CFR 585.150. The Department has no interest in maintaining a rule that is unnecessary.

The Department has determined that this rule is not controversial and is administrative in nature and is therefore issuing this action as a direct final rule. Rescinding § 585.150 does not prevent BOEM from publishing a schedule of renewable lease sales if the Secretary determines that such a schedule is warranted, and, indeed, BOEM had done so in the past before § 585.150 was promulgated. Moreover, publication of a renewable lease sale schedule does not mandate that BOEM ultimately hold any particular lease sale. This rescission will be effective September 4, 2025 unless significant adverse comments are received by August 20, 2025. For purposes of this section, an adverse comment is one which explains why the rule would be inappropriate, including a challenge to the rule's underlying premise or approach, or why the rule would be ineffective or unacceptable without changes. Comments that are insubstantial or opinion only will not be considered adverse under this procedure. A comment recommending a rule change in addition to the rule will not be considered an adverse comment, unless there is a statement of why the rule would be unacceptable without the additional change.

Organization of this document. The information in this preamble is organized as follows:

I. General Information

A. Purpose of This Regulatory Action and Summary

B. Does this action apply to me?

C. Where can I get a copy of this document and other related information?

II. Background

A. Statutory and Regulatory Authority

III. Statutory and Executive Order Reviews

A. Executive Order (E.O.) 12866: Regulatory Planning and Review, as Amended by Executive Order 13563: Improving Regulation and Regulatory Review

B. Regulatory Flexibility Act (RFA)

C. Small Business Regulatory Enforcement Fairness Act (SBREFA)

D. Unfunded Mandates Reform Act (UMRA)

E. Executive Order 12630: Governmental Actions and Interference With Constitutionally Protected Property Rights

F. Executive Order 13132: Federalism

G. Executive Order 12988: Civil Justice Reform

H. Executive Order 13175: Consultation and Coordination With Indian Tribal Governments

I. Paperwork Reduction Act (PRA)

J. National Environmental Policy Act (NEPA)

K. Data Quality Act

L. Executive Order 13211: Actions Concerning Regulations That Significantly Affect Energy Supply, Distribution, or Use

M. Congressional Review Act (CRA)

I. General Information

A. Purpose of This Regulatory Action and Summary

30 CFR 585.150 directs a schedule for publication of projected renewable energy lease sales. A projected schedule of lease sales is not mandated by the authorizing statute, the OCSLA. The Department does not wish to maintain unnecessary rules, and this section will be removed. This final action removes 30 CFR 585.150.

B. Does this action apply to me?

30 CFR 585.150 does not regulate the public. This is an administrative change only and its removal does not affect any legal rights, obligations, or interests of any affected party.

C. Where can I get a copy of this document and other related information?

In addition to being available in the docket, BOEM will post an electronic copy of this direct final rule at: https://www.boem.gov/about-boem/regulations-guidance/published-rules.

II. Background

A. Statutory and Regulatory Authority

Section 5 of OCSLA (43 U.S.C. 1334) authorizes the Secretary to issue regulations to administer leasing on the Outer Continental Shelf (OCS). Section 5(a) of OCSLA (43 U.S.C. 1334(a)) authorizes the Secretary to “prescribe such rules and regulations as may be necessary to carry out [provisions of OCSLA]” related to leasing on the OCS. Also, subsection 8(p)(8) of OCSLA (43 U.S.C. 1337(p)(8)) authorizes the Secretary to “issue any necessary regulations to carry out this subsection.” This rule only makes administrative changes to remove a section from part 585 of title 30 that does not regulate the public.

III. Statutory and Executive Order Reviews

A. Executive Order (E.O.) 12866: Regulatory Planning and Review, as Amended by Executive Order 13563: Improving Regulation and Regulatory Review

E.O. 12866 gives OMB the authority to review regulatory actions that are categorized as “significant”; i.e., those actions that are likely to result in a rule that may:

• Have an annual effect on the economy of $100 million or more or adversely affect in a material way the economy; a sector of the economy; productivity; competition; jobs; the environment; public health or safety; or state, local or tribal governments or communities;

• Create a serious inconsistency or otherwise interfere with an action taken or planned by another agency;

• Materially alter the budgetary impacts of entitlements, grants, user fees or loan programs or the rights and obligations of recipients thereof; or

• Raise novel legal or policy issues arising out of legal mandates, the President's priorities, or the principles set forth in the Executive Order.

E.O. 12866 provides that the Office of Information and Regulatory Affairs (OIRA) in the Office of Management and Budget (OMB) will review all significant rules. OIRA has determined that this action is not a significant regulatory action, and therefore, it was not submitted to OMB for review.

E.O. 13563 reaffirms the principles of E.O. 12866 while calling for improvements in the Nation's regulatory system to promote predictability and reduce uncertainty, and to use the best, most innovative, and least burdensome tools for achieving regulatory ends. E.O. 13563 directs agencies to consider regulatory approaches that reduce burdens and maintain flexibility and freedom of choice for the public where these approaches are relevant, feasible, and consistent with regulatory objectives. BOEM has developed this rule in a manner consistent with these requirements.

B. Regulatory Flexibility Act (RFA)

The RFA, 5 U.S.C. 601-612, requires agencies to prepare a regulatory flexibility analysis for any rule subject to notice and comment rulemaking requirements under the Administrative Procedure Act (APA) unless the rule will not have a significant economic impact on a substantial number of small entities. The RFA generally requires agencies to analyze the economic impact of regulations when there is likely to be a significant economic impact on a substantial number of small entities and to consider regulatory alternatives that will achieve the agency's goals while minimizing the burden on small entities. This action will not have a significant economic impact on small entities under the RFA because it does not impose any requirements on small entities. The rescission of section 585.150 does not regulate the public.

C. Small Business Regulatory Enforcement Fairness Act (SBREFA)

The SBREFA, 5 U.S.C. 804(2), requires BOEM to perform a regulatory flexibility analysis, provide guidance, and help small businesses comply with statutes and regulations for major rulemakings. This action is not subject to the SBREFA because it: (1) does not have an annual effect on the economy of $100 million or more; (2) will not cause a major increase in costs or prices for consumers, individual industries, Federal, State, or local government agencies, or geographic regions; and (3) does not have significant adverse effects on competition, employment, investment, productivity, innovation, or the ability of U.S.-based enterprises to compete with foreign-based enterprises.

BOEM anticipates the final rule would have neither significant employment nor small business impacts; nor cause major price increases for consumers, businesses, or governments; nor significantly degrade competition, employment, investment, productivity, innovation, or the ability of U.S. businesses to compete against foreign businesses. The rule only rescinds a section that does not regulate the public.

Small businesses may send comments on the actions of Federal employees who enforce or otherwise determine compliance with Federal regulations to the Small Business and Agriculture Regulatory Enforcement Ombudsman, and to the Regional Small Business Regulatory Fairness Board. The Ombudsman evaluates these actions annually and rates each agency's responsiveness to small business. If you wish to comment on actions by employees of BOEM, call 1-888-REG-FAIR (1-888-734-3247).

D. Unfunded Mandates Reform Act (UMRA)

The UMRA, 2 U.S.C. 1531-1538, requires Federal agencies, unless otherwise prohibited by law, to assess the effects of regulatory actions on state, local and Tribal governments, and the private sector. Section 202 of UMRA generally requires Federal agencies to prepare a written statement, including a cost-benefit analysis, for each proposed and final rule with “Federal mandates” that may result in expenditures by state, local, and Tribal governments, in the aggregate, or to the private sector of $100 million or more in any one year. BOEM has determined this action does not contain any unfunded mandate as described in UMRA 2, U.S.C. 1531-1538, and does not significantly or uniquely affect small groups.

The action imposes no enforceable duty on any State, local, or Tribal governments or the private sector.

E. Executive Order 12630: Governmental Actions and Interference With Constitutionally Protected Property Rights

E.O. 12630 ensures that government actions affecting the use of private property are undertaken on a well-reasoned basis with due regard for the potential financial impacts imposed on the government. This action does not effect a taking of private property or otherwise have taking implications under E.O. 12630. A takings implication assessment is not required.

F. Executive Order 13132: Federalism

E.O. 13132 (64 FR 43255, August 4, 1999) revoked and replaced E.O.s 12612 (Federalism) and 12875 (Enhancing the Intergovernmental Partnership). E.O. 13132 took effect on November 2, 1999, and thus applies to actions published on or after November 2, 1999. Sections 3 and 6 of E.O. 13132 apply to policies with federalism implications, defined in the Executive Order as including actions that have “substantial direct effects on the States, on the relationship between the national government and the States, or on the distribution of power and responsibilities among the various levels of government.”

Regulatory actions that have substantial direct effects on the States, on the relationship between the national government and the States, or on the distribution of power and responsibilities among the various levels of government are subject to E.O. 13132. Under the criteria in section 1 of E.O. 13132, this rule does not have sufficient federalism implications to warrant the preparation of a federalism summary impact statement. It will not have substantial direct effects on the states, on the relationship between the national government and the states, or on the distribution of power and responsibilities among the various levels of government.

G. Executive Order 12988: Civil Justice Reform

E.O. 12988 requires that rules:

(1) Meet the criteria of section 3(a) requiring that all regulations be reviewed to eliminate errors and ambiguity and be written to minimize litigation; and

(2) Meet the criteria of section 3(b)(2) requiring that all regulations be written in clear language and contain clear legal standards.

This rule complies with the requirements of E.O. 12988.

H. Executive Order 13175: Consultation and Coordination With Indian Tribal Governments

The Department and BOEM strive to strengthen their government-to-government relationships with Indian Tribes through a commitment to consultation with Indian Tribes and recognition of the Tribes' right to self-governance and Tribal sovereignty. BOEM evaluated this rule under the Department's consultation policy, Departmental Manual part 512, chapters 4 and 5, and E.O. 13175. BOEM determined that this rule has no substantial direct effects on federally recognized Indian Tribes or Alaska Native Claims Settlement Act Corporations and that consultation under existing Department and BOEM policies is not required.

I. Paperwork Reduction Act (PRA)

This rule does not contain information collection requirements, and a submission to the OMB under the PRA (44 U.S.C. 3501 et seq.) is not required. An agency may not conduct or sponsor, and a person is not required to respond to, a collection of information unless it displays a currently valid OMB control number.

J. National Environmental Policy Act (NEPA)

This rule does not constitute a major Federal action significantly affecting the quality of the human environment. A detailed environmental analysis under NEPA is not required because the final rule is covered by a categorical exclusion (see 43 CFR 46.205). This final rule meets the criteria set forth at 43 CFR 46.210(i) for a Departmental categorical exclusion in that this final rule is “of an administrative, financial, legal, technical, or procedural nature.” BOEM has also determined that the final rule does not involve any of the extraordinary circumstances listed in 43 CFR 46.215 that would require further analysis under NEPA.

K. Data Quality Act

In promulgating this rule, BOEM did not conduct or use a study, experiment, or survey requiring peer review under the Data Quality Act (Pub. L. 106-554, app. C, sec. 515, 114 Stat. 2763, 2763A-153-154). In accordance with the Data Quality Act, the Department has issued guidance regarding the quality of information that it relies upon for regulatory decisions. This guidance is available at the Department's website at: https://www.doi.gov/ocio/policy-mgmt-support/information-and-records-management/iq.

L. Executive Order 13211: Actions Concerning Regulations That Significantly Affect Energy Supply, Distribution, or Use

E.O. 13211 was issued on May 22, 2001, and requires Federal agencies to prepare a “Statement of Energy Effects” when undertaking certain regulatory actions. A Statement of Energy Effects describes the adverse effects of a “significant energy action” on energy supply, distribution and use; reasonable alternatives to the action; and the expected effects of the alternatives on energy supply, distribution and use.

Under E.O. 13211, BOEM is required to prepare and submit to OMB a “Statement of Energy Effects” for “significant energy actions.” This should include a detailed statement of any adverse effects on energy supply, distribution, or use (including a shortfall in supply, price increases, and increased use of foreign supplies) expected to result from the action and a discussion of reasonable alternatives and their effects. This action is not subject to E.O. 13211, because it is not a significant regulatory action under E.O. 12866.

M. Congressional Review Act (CRA)

The CRA, 5 U.S.C. 801-808, established a mechanism to expedite congressional review of agency rules. The CRA generally provides that before a rule may take effect, the agency promulgating the rule must submit a rule report, which includes a copy of the rule, to each House of the Congress and to the Comptroller General of the United States. It is important to note that the CRA applies only to final rules; it does not apply to proposed rules. BOEM generally submits a report containing the rule and other required information to the U.S. Senate, the U.S. House of Representatives and the Comptroller General of the United States prior to publication of the rule in the Federal Register. A “major rule” cannot take effect until 60 days after it is published in the Federal Register or is submitted to Congress, whichever is later.

This rule is exempt from the CRA because it is a rule of department organization, procedure or practice that does not substantially affect the rights or obligations of non-agency parties (5 U.S.C. 804(3)).

List of Subjects in 30 CFR Part 585

Administrative practice and procedure, Continental shelf, Energy, Marine resources, Natural resources, Renewable energy, Reporting and recordkeeping requirements, Rights-of-way.

This action by the Assistant Secretary is taken pursuant to an existing delegation of authority.

Adam G. Suess,
Acting Assistant Secretary, Land and Minerals Management.

For the reasons stated in the preamble, the Department of the Interior amends 30 CFR part 585.150 as follows:

PART 585—RENEWABLE ENERGY ON THE OUTER CONTINENTAL SHELF

1. The authority citation for part 585 continues to read as follows:

Authority: 43 U.S.C. 1337.

Subpart B—[Removed and reserved]

2. Remove and reserve subpart B.

[FR Doc. 2025-14805 Filed 8-4-25; 8:45 am]

BILLING CODE 4340-98-P